DEPARTMENT OF ENERGY

Notice of Public Meeting To Inform the Human Reliability Program

AGENCY: Office of Environment, Health, Safety and Security, Department of Energy.

ACTION: Notice of public meeting.

SUMMARY: The Department of Energy, Office of Corporate Security Strategy, Analysis and Special Operations, will conduct an Open Meeting June 28-30, 2016, to discuss best practices and recommendations for program improvement that will potentially assist in the revision to 10 CFR part 712 Human Reliability Program.

The agenda items to be considered include:

—Reliability Criteria and Monitoring

—Designation of HRP positions and methodology

—Administration and Appeals

—Best Practices for Program Implementation

DATES: The meeting will take place June 28-30, 2016, from 8:30 a.m. to 4:00 p.m. The meeting will consist of several working groups, and all groups will meet together from 1:00 p.m. to 4:00 p.m. on June 30.

Requests to attend the public meeting must be received no later than June 21, 2016. If a request to attend the public meeting is not received by June 21, 2016, attendance at the public meeting will not be permitted. Written comments may still be provided no later than July 8, 2016.” Please note that due to security considerations, two valid, government issued photo identifications must be presented to gain entrance. It is recommended that attendees arrive no later than 30 minutes ahead of the scheduled meeting for the security screening process.

ADDRESSES: The New Hope Center, 602 Scarboro Rd, Oak Ridge, TN 37830 Requests to attend the public meeting should be provided to The Department of Energy, Office of Corporate Security Strategy, Analysis and Special Operations, ITPMO@hq.doe.gov. SUBJECT LINE: HRP REQUEST TO ATTEND PUBLIC MEETING.

Written comments should be mailed to The Human Reliability Program, AU 1.2, 1000 Independence Ave. SW., 20585. Electronic submission is preferred, and comments can be sent to ITPMO@hq.doe.gov SUBJECT LINE: HRP COMMENTS.

FOR FURTHER INFORMATION CONTACT: Requests for further information should be sent to ITPMO@hq.doe.gov with subject line “HRP” or Regina Griego Cano at (202) 586-7079. Members of the public will be permitted to speak at the conclusion of the public meeting as time allows. If you wish to speak at the public meeting, you must provide a copy of your written remarks no later than June 23, 2016, to ITPMO@hq.doe.gov.

SUPPLEMENTARY INFORMATION: 10 CFR part 712 establishes the policies and procedures for a Human Reliability Program (HRP) in the Department of Energy (DOE), including the National Nuclear Security Administration (NNSA). The HRP is a security and safety reliability program designed to ensure that individuals who occupy positions affording access to certain materials, nuclear explosive devices, facilities, and programs meet the highest standards of reliability and physical and mental suitability. DOE is providing an opportunity for public input into the HRP and DOE regulations implementing the HRP at 10 CFR part 712.

Issued in Washington, DC, on June 7, 2016.
Regina Griego Cano,
Program Manager, Human Reliability Program (Policy), Office of Corporate Security Strategy, Analysis and Special Operations, Office of Environment, Health, Safety and Security, Department of Energy.

[FR Doc. 2016-14019 Filed 6-13-16; 8:45 am]

BILLING CODE 6450-01-P